DEPARTMENT OF COMMERCE

Foreign-Trade Zones Board

(Docket 71-2000)

Foreign-Trade Zone 50, Long Beach, CA; Proposed Foreign-Trade Subzone; ARCO Products Company, (Oil Refinery Complex); Long Beach, CA, Area

An application has been submitted to the Foreign-Trade Zones Board (the Board) by the Board of Harbor Commissioners of the City of Long Beach, grantee of FTZ 50, requesting special-purpose subzone status for the oil refinery complex of Atlantic Richfield Company (ARCO), a wholly-owned subsidiary of BP America, located in the Long Beach, California, area. The application was submitted pursuant to the provisions of the Foreign-Trade Zones Act, as amended (19 U.S.C. 81a-81u), and the regulations of the Board (15 CFR part 400). It was formally filed on December 14, 2000.

The ARCO refinery complex (854 acres) is located at 7 sites in the Long Beach area (Los Angeles County), California: Site 1 (268,000 BPD capacity, 6.7 million barrel capacity, 646.5 acres)—main refinery complex, located at 1801 East Sepulveda Blvd., some 25 miles south of downtown Los Angeles; Site 2 (5.5 acres)—Berth 121 of Terminal 1, Long Beach Harbor, for receiving crude oil; Site 3 (24 tanks,1.7 million barrel capacity, 19 acres )—Terminal 2, Long Beach Harbor, crude oil and product storage; Site 4 (27 tanks, 2.1 million barrel capacity, 73 acres)—Hynes facility for crude and product storage, located at 5900 Cherry Avenue, Long Beach, some 4 miles northwest of the refinery; Site 5 (4 tanks, 1.2 million barrel capacity, 15 acres)—“Southern California Edison-Long Beach” leased storage facility, located at 2665 Seaside Blvd., Long Beach, some 6 miles south of the refinery; Site 6 (12 tanks, 3.6 million barrel capacity, 75 acres)” “Southern California Edison-Dominguez” leased storage facility, 2500 East Victoria, Compton, some 5 miles northeast of the refinery; and Site 7 (20 tanks, 1 million barrel capacity, 20 acres)—Hathaway terminal, 2350 Hathaway Drive, Signal Hill, some 5 miles east of the refinery.

The refinery (920 employees) is used to produce fuels and petrochemical feedstocks. Fuel products include gasoline, jet fuel, distillates, residual fuels, naphthas and motor fuel blendstocks. Petrochemical feedstocks and refinery by-products include methane, ethane, propane, propylene, butane, petroleum coke and sulfur. Some 15 percent of the crude oil (91 percent of inputs) is sourced abroad. The application also indicates that the company may in the future import under FTZ procedures some naphthas, virgin gas oil, natural gas condensate, and motor fuel blendstocks.

Zone procedures would exempt the refinery from Customs duty payments on the foreign products used in its exports. On domestic sales, the company would be able to choose the Customs duty rates that apply to certain petrochemical feedstocks and refinery by-products (duty-free) by admitting incoming foreign crude oil in non-privileged foreign status. The duty rates on inputs range from 5.25¢/barrel to 10.5¢/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at the address below.

The closing period for their receipt is February 26, 2001. Rebuttal comments in response to material submitted during the foregoing period may be submitted during the subsequent 15-day period (to March 13, 2001).

A copy of the application and accompanying exhibits will be available for public inspection at each of the following locations:

U.S. Department of Commerce, Export Assistance Center, One World Trade Center, Suite 1670 , Long Beach, CA 90831;

Office of the Executive Secretary, Foreign-Trade Zones Board, Room 4008, U.S. Department of Commerce, 14th & Pennsylvania Avenue, NW, Washington, DC 20230.

Dated: December 15, 2000.
Dennis Puccinelli,
Executive Secretary.

[FR Doc. 00-33201 Filed 12-27-00; 8:45 am]

BILLING CODE 3510-DS-P